DEPARTMENT OF COMMERCE

National Oceanic and Atmospheric Administration

Notice of 30-day Public Comment Period on an Addendum to the Portland Harbor Damage Assessment Plan

AGENCY: National Ocean Service, National Oceanic and Atmospheric Administration, U.S. Department of Commerce.

ACTION: Notice of Public Comment Period.

SUMMARY: On June 1, 2010 NOAA and its co-members of the Portland Harbor Trustee Council (Trustee Council) published the “Portland Harbor Superfund Site Natural Resource Damage Assessment Plan”, which set forward the Trustee Council's approach for assessing natural resource damages at the Portland Harbor Superfund Site in cooperation with potentially responsible parties in order to resolve natural resource damages liability through legal settlements.

Through today's notice, NOAA is announcing: (1) An addendum to the plan that provides for additional efforts to complete the assessment of natural resource damages for lost ecological and human use services resulting from releases of hazardous substances and oil to the lower Willamette River in Portland, Oregon; and (2) a provision of a 30-day period for public comment on the addendum.

ADDRESSES: Comments are sought on the new addendum to the damage assessment plan and should be emailed to Robert.Neely@noaa.gov with the subject line: “Comments on Addendum to the Portland Harbor Natural Resource Damage Assessment Plan.” Comments may also be mailed to: Rob Neely of NOAA Western Region Center, 7600 Sand Point Way, Building 1, Seattle, WA, 98118. The addendum is found at: https://casedocuments.darrp.noaa.gov/northwest/portharbor/pdf/Portland_Harbor_Addendum_to_Nat_Res_Damage_Assess_Plan_0309_2018_Public.pdf

SUPPLEMENTARY INFORMATION: On December 1, 2000 the U.S. Environmental Protection Agency placed Portland Harbor on the National Priorities List, thus designating it as a Superfund Site. Since the early 1900s numerous industrial facilities have operated in the vicinity of the lower Willamette River from its confluence with the Columbia River at river mile 0 upstream to downtown Portland at approximately river mile 14. Activities have included ship building, repair and maintenance; energy generation; oil and gas transfer and storage; pesticide production; port operations; and others. These activities have resulted in the release of hazardous substances and oil to the Portland Harbor.

Examples of contaminants of concern released to the Portland Harbor include polychlorinated biphenyls (PCBs), pesticides, metals, polycyclic aromatic hydrocarbons, and semi-volatile organic compounds. Natural resources such as benthic invertebrates, migratory fish (such as juvenile Chinook salmon), resident fish (such as sculpin), mink, osprey and bald eagles exposed to these compounds can potentially be harmed as a result. In addition, hazardous substances released to the Portland Harbor have resulted have reduced the human use services (e.g., recreational fishing, recreational boating, tribal uses) provided by the lower Willamette River. In addition, fish consumption advisories related to hazardous substances have been issued to the public warning of the risks associated with consumption of various fish species commonly targeted by anglers. Addendum 2 to the Damage Assessment Plan sets forth the approach the Trustee Council will apply to completing the damage assessment process to resolve natural resource damages liability with non-settling parties.

The Trustee Council is composed of Federal, state and tribal natural resource trustees. Members of the Trustee Council include the U.S. Department of the Interior, acting through the U.S. Fish and Wildlife Service (USFWS); the U.S. Department of Commerce, acting through NOAA; the State of Oregon; the Confederated Tribes of the Grand Ronde Community of Oregon; the Confederated Tribes of Siletz Indians; the Confederated Tribes of the Umatilla Indian Reservation; the Confederated Tribes of the Warm Springs Reservation of Oregon; and the Nez Perce Tribe. The Comprehensive Environmental Response, Compensation, and Liability Act (CERCLA), 42 U.S.C. 9601 et seq.; the Oil Pollution Act (OPA) of 1990, 33 U.S.C. 2701 et seq.; the Clean Water Act (CWA), 33 U.S.C. 1251; the National Oil and Hazardous Substances Pollution Contingency Plan [National Contingency Plan (NCP)], 40 CFR 300, Subpart G; Executive Orders 12580 and 12777; and other applicable federal and state laws and regulations, provide a legal framework for the Trustee Council's actions.

Under the federal regulations, the Trustee Council can elect to perform a Type A or Type B injury assessment. Type A assessment procedures use simplified model assumptions to assess injuries that result from a single event or short-term exposure. Releases of hazardous substances from the Site have occurred from multiple sources over many decades, resulting in complex exposure conditions impacting aquatic and upland media and associated complex food webs. Therefore, the Trustee Council previously elected to perform a Type B assessment, the procedures for which require “more extensive field observation than the Type A procedures.” 43 CFR 11.33(b). This assessment method includes injury determination, quantification, and damage determination. Because substantial Site-specific data already exist to support the assessment, a Type B assessment can be conducted for the Site at a reasonable cost. The federal regulations for a Type B assessment outline methods for determining (1) pathways through which hazardous substances released by PLPs expose natural resources, (2) injuries to natural resources, (3) the extent of those injuries and resultant public losses, (4) baseline conditions and time required for the resources to recover to baseline, and (5) the cost or value of restoring injured resources. These methods facilitate calculation of natural resource damages. 43 CFR 11.60-11.84.

Dated: May 16, 2018.
David Westerholm,
Director, Office of Response and Restoration.

[FR Doc. 2018-11075 Filed 5-22-18; 8:45 am]

BILLING CODE 3510-JE-P